DEPARTMENT OF HEALTH AND HUMAN SERVICES

Centers for Disease Control and Prevention

[Program Announcement 01141]

Developing HIV/AIDS Management and Research Capacity in Uganda: Notice of Availability of Funds

A. Purpose

The Centers for Disease Control and Prevention (CDC) announces the availability of fiscal year (FY) 2001 funds for a cooperative agreement program for developing management, evaluation, and research capacity for HIV/AIDS programs in Uganda.

The purpose of this program is to produce public health specialists who possess the knowledge, skills, and professional approach required to assume HIV/AIDS leadership roles within the public health systems of Uganda. This will be accomplished by supporting the provision of training through short courses and a fellowship in HIV/AIDS program management and evaluation and in HIV/AIDS research in Uganda. The fellowship will also improve communication among the country's AIDS specialists, encouraging future collaboration and information-sharing. In general, the development of well-trained specialists will help to assure that the country meets, in a self-reliant manner, the current and future challenges that HIV/AIDS presents to public health in Uganda.

The U.S. Government seeks to reduce the impact of HIV/AIDS in specific countries within sub-Saharan Africa, Asia, and the Americas through its Leadership and Investment in Fighting an Epidemic (LIFE) initiative. Through this LIFE program, CDC has initiated its Global AIDS Program (GAP) to strengthen capacity and expand activities in the areas of (1) HIV primary prevention; (2) HIV care, support, and treatment; and (3) capacity and infrastructure development. Targeted countries represent those with the most severe epidemics and the highest number of new infections. They also represent countries where the potential for impact is greatest and where U.S. Government agencies are already active. Uganda is one of these targeted countries.

Uganda has been a global leader in the development of programs to combat the spread of HIV. Despite intensive interventions and reduced HIV incidence, however, incidence and prevalence rates of HIV infection are still unacceptably high. It is estimated that 1,500,000 people (7-8 percent of the adult population) in Uganda are living with HIV. In addition, Uganda's success in developing these innovative HIV/AIDS intervention programs has generated a strong demand for people with the time and skills to manage and evaluate the programs and to conduct high-level HIV/AIDS research. Currently, the supply of qualified people able to devote all of their time to HIV/AIDS program management or HIV/AIDS research is limited; persons running HIV programs are often too involved with day-to-day activities to be able to stay abreast of issues related to the multiple aspects of the HIV epidemic or to meet all of the daily management demands created by the new programs. The availability of training in HIV/AIDS-specific program management and research to meet this demand is also limited in Uganda. In fact, no systematic public health training specifically oriented towards HIV/AIDS is currently offered in Uganda.

Establishing a core group of well-trained experts in the various aspects of HIV/AIDS will expand the country's capacity in HIV/AIDS programs and research and will provide much-needed cross-fertilization of disciplines.

B. Eligible Applicants

Assistance will be provided only to the Institute of Public Health (IPH) at Makerere University in Kampala, Uganda. No other applications are solicited.

The Institute of Public Health at Makerere University is the most appropriate and qualified organization for conducting activities under this program, because it is the only public health education facility in Uganda with the resources necessary to adequately train the participants of this fellowship. This unique capability is partly due to its Masters in Public Health (MPH) program, which the University has offered since 1994. This “Public Health School Without Walls (PHSWOW)” provides both classroom and field-based experiences for their MPH students during the two-year curriculum. IPH also has previous experience in offering short courses in health program management for middle-level managers as part of its public health curriculum.

Additional important and unique resources include fourteen staff members specializing in relevant fields of public health, on-line access to databases on CD-ROM, a data management center equipped with ten computers that have word processing and statistical programs, and Internet connectivity with unlimited access for students.

A. Availability of Funds

Approximately $700,000 is available in FY 2001 to fund this award. It is expected that the award will begin on or about September 30, 2001, and will be made for a 12-month budget period within a project period of up to five years. Funding estimates may change.

Continuation awards within an approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

Use of Funds

Funds awarded through this announcement may be used for salaries, equipment, supplies, travel, and other costs required to run the fellowship and courses.

Funds may not be used for major capital expenditures, such as a large volume purchase of computers and data storage systems. Additionally, funds may not be used for the direct purchase of antiretroviral drugs for treatment of established HIV infection.

Funds received from this announcement will not be used for the purchase of antiretroviral drugs for treatment of established HIV infection, occupational exposures, and non-occupational exposures and will not be used for the purchase of machines and reagents to conduct the necessary laboratory monitoring for patient care.

No funds appropriated under this Act shall be used to carry out any program of distributing sterile needles or syringes for the hypodermic injection of any illegal drug.

Applicants may contract with other organizations under these cooperative agreements, however, applicants must perform a substantial portion of the activities including program management and operations and delivery of prevention services for which funds are requested.

The costs that are generally allowable in grants to domestic organizations are likewise allowable to foreign institutions and international organizations, with the following exceptions:

A. Alterations and Renovations: Unallowable.

B. Customs and Import Duties: Unallowable. This includes consular fees, customs surtax, value added taxes, and other related charges.

C. Indirect Costs: With the exception of the American University, Beirut, the Gorgas Memorial Institute, and the World Health Organization, indirect costs will not be paid (either directly or through a sub-award) to organizations located outside the territorial limits of the United States or to international organizations regardless of their location.

D. Submission and Deadline

Submit the original and two copies of PHS 5161-1 (OMB Number 0920-0428). Forms are available in the application kit and at the following Internet address: www.cdc.gov/od/pgo/forminfo.htm.

On or before July 25, 2001, submit an electronic or hard copy of the application to the Grants Management Specialist identified in the “Where to Obtain Additional Information” section of this announcement. If you choose to submit your application electronically, you should submit hard copies of your application on or before August 9, 2001.

Deadline: Applications shall be considered as meeting the deadline if they are either:

1. Received on or before the deadline date; or

2. Sent on or before the deadline date and received in time for submission to the independent review group.

Late Applications: Applications which do not meet the criteria 1. or 2. above will be returned to the applicant.

E. Where To Obtain Additional Information

This and other CDC announcements can be found on the CDC home page Internet address— http://www.cdc.gov Click on “Funding” then “Grants and Cooperative Agreements.”

To obtain additional information, contact: Dorimar Rosado, Grants Management Specialist, Grants Management Branch, Procurement and Grants Office, Centers for Disease Control and Prevention, 2920 Brandywine Road, Room 3000 MS-15 Atlanta, GA 30341-4146, Telephone: (770) 488-2782 Email: dpr7@cdc.gov.

For program technical assistance, contact: Jonathan Mermin, MD, MPH, Global AIDS Program (GAP), Uganda Country Team, National Center for HIV, STD, and TB Prevention, Centers for Disease Control and Prevention (CDC), P.O. Box 49, Entebbe, Uganda, Telephone: 41-320-776, Email: jhm7@cdc.gov.

Dated: June 26, 2001.
John L. Williams,
Director, Procurement and Grants Office, Centers for Disease Control and Prevention (CDC).

[FR Doc. 01-16534 Filed 6-29-01; 8:45 am]

BILLING CODE 4163-18-P